DEPARTMENT OF COMMERCE

National Oceanic and Atmospheric Administration

50 CFR Part 648

[Docket No. 061020273-7001-03]

RIN 0648-XC92

Fisheries of the Northeastern United States; Summer Flounder Fishery; Rescission of Commercial Closure for Connecticut

AGENCY: National Marine Fisheries Service (NMFS), National Oceanic and Atmospheric Administration (NOAA), Commerce.

ACTION: Temporary rule; rescission of closure.

SUMMARY: NMFS announces rescission of the closure previously issued for the State of Connecticut. This notification is consistent with Connecticut's announcement to reopen the commercial summer flounder fishery within State waters, effective September 24, 2007. The rescission of this closure is due to catch accounting corrections that have reduced previously reported landings in Connecticut. The public is advised that landings are allowed for summer flounder Federal permit holders until it is determined that the quota has been fully harvested.

DATES: Effective 0001 hours, October 10, 2007, through December 31, 2007.

FOR FURTHER INFORMATION CONTACT: Emily Bryant, Fishery Management Specialist, (978) 281-9244.

SUPPLEMENTARY INFORMATION: Regulations governing the summer flounder fishery are at 50 CFR part 648. The regulations require annual specification of a commercial quota that is apportioned on a percentage basis among the coastal states from North Carolina through Maine. The process to set the annual commercial quota and the percent allocated to each state is described in § 648.100.

NMFS, in compliance with regulations found at 50 CFR part 648, closed the Federal commercial summer flounder fishery for the State of Connecticut after determining through quota monitoring that Connecticut had harvested its allocated summer flounder quota. This closure published at 72 FR 48945, August 27, 2007, was effective August 27, 2007, and was intended to last through December 31, 2007.

Later analyses comparing electronic dealer reports to commercial fishermen logbooks and Federal fishing vessel trip reports have revealed instances of summer flounder landings being attributed to Connecticut that were actually landed in other states. Due to this new information, Connecticut has reinstated a possession limit for the commercial harvest of summer flounder of 75 lb (34 kg). This notification announces NMFS's decision to allow Federally permitted vessels to land summer flounder in Connecticut until the quota is determined to be fully harvested. Therefore, effective 0001 hours October 10, 2007, through December 31, 2007, further landings of summer flounder in Connecticut by vessels holding summer flounder commercial Federal fisheries permits are allowed until the remaining quota has been harvested. Effective 0001 hours, October 10, 2007, through December 31, 2007, federally permitted dealers are also notified that they may purchase summer flounder from federally permitted vessels that land in Connecticut for the remainder of the quota harvest.

Classification

This action is required by 50 CFR part 648 and is exempt from review under Executive Order 12866.

Authority: 16 U.S.C. 1801 et seq.

Dated: October 3, 2007.
Emily H. Menashes,
Acting Director, Office of Sustainable Fisheries, National Marine Fisheries Services.

[FR Doc. E7-19928 Filed 10-9-07; 8:45 am]

BILLING CODE 3510-22-S